SECURITIES AND EXCHANGE COMMISSION

[Release No. 34-44522; File No. SR-NASD-2001-36]

Self-Regulatory Organizations; Order Granting Accelerated Approval of Proposed Rule Change by the National Association of Securities Dealers, Inc. to Eliminate the Service Desk Feature of the Automated Confirmation Transaction Service

July 6, 2001.

On May 16, 2001, the National Association of Securities Dealers, Inc. (“NASD” or “Association”), through its subsidiary, The Nasdaq Stock Market, Inc. (“Nasdaq”), filed with the Securities and Exchange Commission (“Commission”), pursuant to section 19(b)(1) of the Securities Exchange Act of 1934 (“Act”) ¹ and Rule 19b-6 thereunder,² a proposed rule change to eliminate the Service Desk feature of the Automated Confirmation Transaction Service (“ACT”). Nasdaq amended the proposal on May 31, 2001,³ and again amended the proposal on June 7, 2001.⁴

¹ 15 U.S.C. 78s(b)(1).

² 17 CFR 240.19b-6.

³ See May 30, 2001 letter from Edward S. Knight, Executive Vice President and General Counsel, Nasdaq, to Katherine A. England, Assistant Director, Division of Market Regulation (“Division”), Commission and attachments.

⁴ See June 6, 2001 letter from Edward S. Knight, Executive Vice President and General Counsel, Nasdaq, to Katherine A. England, Assistant Director, Division, Commission.

The proposal, as amended, was published in the Federal Register on June 19, 2001.⁵ The Commission received no comments on the proposal.

⁵ See Securities Exchange Act Release No. 44411 (June 12, 2001), 66 FR 32971.

The Commission finds that the proposed rule change, as amended, is consistent with the requirements of the Act and the rules and regulations thereunder applicable to a national securities association ⁶ and, in particular, the requirements of section 15A of the Act ⁷ and the rules and regulations thereunder. The Commission finds specifically that the proposed rule change is consistent with section 15A(b)(6) of the Act,⁸ which requires that the Association's rules be designed to foster cooperation and coordination with persons engaged in regulating, clearing, settling, processing information with respect to, and facilitating transactions in securities, to remove impediments to and perfect the mechanism of a free and open market and a national market system, and, in general, to protect investors and the public interest.

⁶ In approving this proposed rule change, the Commission has considered the proposed rule's impact on efficiency, competition, and capital formation. 15 U.S.C. 78c(f).

⁷ 15 U.S.C. 78o-3.

⁸ 15 U.S.C. 78o-3(b)(6).

The Commission finds good cause for granting accelerated approval of the proposed rule change prior to the thirtieth day after the date of publication of notice of filing thereof in the Federal Register. Notice of the proposal indicated that the Commission would consider granting accelerated approval of the proposed rule change after a 15-day comment period.⁹ The Commission received no comments on the proposal. Given the absence of comments, and Nasdaq's desire to eliminate this service while simultaneously offering to assist members in transitioning towards other methods of reporting trades to ACT, the Commission finds good case to approve the proposal on an accelerated basis.

⁹ See footnote 5, supra.

It Is Therefore Ordered, pursuant to section 19(b)(2) of the Act,¹⁰ that the proposed rule change (SR-NASD-2001-36), as amended, be, and it hereby is, approved.

¹⁰ 15 U.S.C. 78s(b)(2).

For the Commission, by the Division of Market Regulation, pursuant to delegated authority.¹¹
¹¹ 17 CFR 200.30-3(a)(12).
Margaret H. McFarland,
Deputy Secretary.

[FR Doc. 01-17520 Filed 7-12-01; 8:45 am]

BILLING CODE 8010-01-M